DEPARTMENT OF TRANSPORTATION

Federal Aviation Administration

14 CFR Part 39

[Docket No. FAA-2024-2136; Project Identifier AD-2023-00296-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2019-14-13, which applies to all The Boeing Company Model 767-200, -300, -300F, and -400ER series airplanes. AD 2019-14-13 was prompted by reports of uncommanded fore and aft movement of the Captain's and First Officer's seats. AD 2019-14-13 requires identifying the part number, and the serial number if applicable, of the Captain's and First Officer's seats, and applicable on-condition actions for affected seats. AD 2019-14-13 also requires a one-time detailed inspection and repetitive checks of the horizontal movement system (HMS) of the Captain's and First Officer's seats, and applicable on-condition actions. AD 2019-14-13 also provides an optional terminating action for the repetitive actions for certain seats. Since the FAA issued AD 2019-14-13, the FAA has determined that additional seats are affected by the unsafe condition. This proposed AD would retain the actions required by AD 2019-14-13 and adds an inspection of previously omitted part numbers. The FAA is proposing this AD to address the unsafe condition on these products.

DATES: The FAA must receive comments on this proposed AD by October 24, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2136; or in person at Docket Operations between 9 a.m. and 5 p.m., Monday through Friday, except Federal holidays. The AD docket contains this NPRM, any comments received, and other information. The street address for Docket Operations is listed above.

Material Incorporated by Reference:

• For Boeing material identified in this proposed AD, contact Boeing Commercial Airplanes, Attention: Contractual & Data Services (C&DS), 2600 Westminster Boulevard, MC 110-SK57, Seal Beach, CA 90740-5600; phone 562-797-1717; website myboeingfleet.com.

• You may view this material at the FAA, Airworthiness Products Section, Operational Safety Branch, 2200 South 216th Street, Des Moines, WA. For information on the availability of this material at the FAA, call 206-231-3195. It is also available at regulations.gov by searching for and locating Docket No. FAA-2024-2136.

FOR FURTHER INFORMATION CONTACT: Courtney Tuck, Aviation Safety Engineer, FAA, 2200 South 216th Street, Des Moines, WA 98198; phone 206-231-3986; email Courtney.K.Tuck@faa.gov.

SUPPLEMENTARY INFORMATION:

Comments Invited

The FAA invites you to send any written relevant data, views, or arguments about this proposal. Send your comments to an address listed under ADDRESSES. Include “Docket No. FAA-2024-2136; Project Identifier AD-2023-00296-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Courtney Tuck, Aviation Safety Engineer, FAA, 2200 South 216th Street, Des Moines, WA 98198; phone 206-231-3986; email Courtney.K.Tuck@faa.gov. Any commentary that the FAA receives that is not specifically designated as CBI will be placed in the public docket for this rulemaking.

Background

The FAA issued AD 2019-14-13, Amendment 39-19691 (84 FR 38855, August 8, 2019) (AD 2019-14-13), for all The Boeing Company Model 767-200, -300, -300F, and -400ER series airplanes. AD 2019-14-13 was prompted by reports of uncommanded fore and aft movement of the Captain's and First Officer's seats. AD 2019-14-13 requires an identification of the part number, and if applicable the serial number, of the Captain's and First Officer's seats, and applicable on-condition actions. AD 2019-14-13 also requires a one-time detailed inspection and repetitive checks of the HMS of the Captain's and First Officer's seats, and applicable on-condition actions. AD 2019-14-13 also provides an optional terminating action for the repetitive checks of the HMS for certain airplanes. The FAA issued AD 2019-14-13 to address uncommanded fore and aft movement of the Captain's and First Officer's seats. An uncommanded fore or aft seat movement during a critical part of a flight, such as takeoff or landing, could cause a flight control obstruction or unintended flight control input, which could result in the loss of the ability to control the airplane.

Actions Since AD 2019-14-13 Was Issued

Since the FAA issued AD 2019-14-13, Boeing and the seat supplier (Ipeco) determined that certain seat part numbers were inadvertently omitted from the service information required by AD 2019-14-13. Ipeco subsequently updated their service information to include the additional part numbers, and Boeing updated their service information as well. Based on this, the FAA has determined that additional seats are affected by the unsafe condition.

FAA's Determination

The FAA is issuing this NPRM after determining that the unsafe condition described previously is likely to exist or develop on other products of the same type design.

Material Incorporated by Reference Under 1 CFR Part 51

The FAA reviewed Boeing Special Attention Service Bulletin 767-25-0539, Revision 2, dated January 27, 2023. This material describes procedures for identification of the part number, and the serial number if applicable, of the Captain's and First Officer's seats, and applicable on-condition actions. On-condition actions include an inspection of each seat's fore and aft and vertical manual control levers for looseness, installation of serviceable seats, and a seat operational test after any cable adjustment. This material also adds Ipeco seat part numbers 3A258-0007-01-1Z, 3A258-0008-01-1Z, 3A258-0041-01-1Z, 3A258-0042-01-1Z, and 3A090-0078-04-1. This material also adds Ipeco seat part numbers 3A090-0078-03-1 and 3A090-0078-05-1, that were previously removed in Boeing Special Attention Service Bulletin 767-25-0539, Revision 1, dated January 9, 2014.

The FAA also reviewed Boeing Special Attention Service Bulletin 767-25-0549, Revision 2, dated January 27, 2023. This material describes procedures for a detailed inspection and repetitive checks of the HMS (including for any Artus part and amendment numbers of the horizontal actuator of the HMS) for the Captain's and First Officer's seats for findings (e.g., evidence of cracks, scores, corrosion, dents, deformation, or visible wear; and incorrectly assembled microswitch assemblies, actuators, and limit switches), and applicable on-condition actions. The on-condition actions include clearing the seat tracks of foreign object debris (FOD), overhauling the HMS, and replacing the horizontal actuator. The material also describes procedures for an optional terminating action for the repetitive checks by installing a serviceable Captain's or First Officer's seat. The service information adds Ipeco seat part number 3A090-0078-03-1, 3A090-0078-04-1, and 3A090-0078-05-1.

This material is reasonably available because the interested parties have access to it through their normal course of business or by the means identified in ADDRESSES section.

Proposed AD Requirements in This NPRM

Although this proposed AD does not explicitly restate the requirements of AD 2019-14-13, this proposed AD would retain all of the requirements of AD 2019-14-13. Those requirements are referenced in the service information identified previously, which, in turn, is referenced in paragraphs (g) and (h) of this proposed AD.

This proposed AD would require accomplishing the actions specified in the service information already described, except for any differences identified as exceptions in the regulatory text of this proposed AD. For information on the procedures and compliance times, see this service information at regulations.gov under Docket No. FAA-2024-2136.

Acceptable Methods of Compliance

The FAA has determined that the actions required by paragraphs (g) and (h) of this AD are not required, under specific conditions, e.g., if it can be shown through maintenance records that the required actions have already been accomplished by the previous revision of the service information and specific conditions have been met. Paragraph (j) of this AD identifies these conditions. Complying with these conditions adequately addresses the unsafe condition identified in this proposed AD.

Costs of Compliance

The FAA estimates that this AD, if adopted as proposed, would affect 694 airplanes of U.S. registry. The FAA estimates the following costs to comply with this proposed AD:

Estimated Costs for Required Actions per Seat
Action | Labor cost | Parts cost | Cost per product | Cost on U.S. operators
Identification, seat (retained actions from AD 2019-14-13) | 1 work-hour × $85 per hour = $85 | $0 | $85 | $117,980.
Detailed inspection, HMS (retained actions from AD 2019-14-13) | 1 work-hour × $85 per hour = $85 | $0 | $85 | Up to $117,980.
Checks, HMS (retained from AD 2019-14-13) | 2 work-hours × $85 per hour = $170, per check cycle | 0 | $170, per check cycle | Up to $235,960, per check cycle.
Identification, seat (new proposed actions) | 1 work-hour × $85 per hour = $85 | 0 | $85 | Up to $117,980.

The FAA estimates the following costs to do any necessary on-condition actions that will be required. The FAA has no way of determining the number of aircraft that might need these on-condition actions:

Estimated Costs of On-Condition Actions *
Action | Labor cost | Parts cost | Cost per product
Adjustment, control lever cable | 1 work-hour × $85 per hour = $85 | $0 | $85.
Overhaul, HMS | 11 work-hours × $85 per hour = $935 | Up to $5,824 | Up to $6,759.
Inspection of each seat's fore/aft and vertical manual control levers | 1 work-hour × $85 per hour = $85 per seat | $0 | $85 per seat.
Installation of serviceable seats | 1 work-hour × $85 per hour = $85 per seat | $0 | $85 per seat.
Clearing FOD | 1 work-hour × $85 per hour = $85 per seat | $0 | $85 per seat.
Replacement of the horizontal actuator | 1 work-hour × $85 per hour = $85 per actuator | $7,937 per actuator | $8,022 per actuator.
Operational test, adjusted control lever cable | 1 work-hour × $85 per hour = $85 per seat | $0 | $85 per seat.
* The estimated cost for tooling to align an affected seat for adjustment of the control lever cable is up to $46,064.

The FAA has received no definitive data that would enable the FAA to provide cost estimates for the optional terminating action for the repetitive checks specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2019-14-13, Amendment 39-19691 (84 FR 38855, August 8, 2019), and

b. Adding the following new Airworthiness Directive:

The Boeing Company: Docket No. FAA-2024-2136; Project Identifier AD-2023-00296-T.

(a) Comments Due Date

The FAA must receive comments on this airworthiness directive (AD) by October 24, 2024.

(b) Affected ADs

This AD replaces AD 2019-14-13, Amendment 39-19691 (84 FR 38855, August 8, 2019) (AD 2019-14-13).

(c) Applicability

(1) This AD applies to all The Boeing Company Model 767-200, -300, -300F, and -400ER series airplanes, certificated in any category.

(2) Installation of Supplemental Type Certificate (STC) ST01920SE does not affect the ability to accomplish the actions required by this AD. Therefore, for airplanes on which STC ST01920SE is installed, a “change in product” alternative method of compliance (AMOC) approval request is not necessary to comply with the requirements of 14 CFR 39.17.

(d) Subject

Air Transport Association (ATA) of America Code 25, Equipment/furnishings.

(e) Unsafe Condition

This AD was prompted by reports of uncommanded fore and aft movement of the Captain's and First Officer's seats. The FAA is issuing this AD to address uncommanded fore and aft movement of the Captain's and First Officer's seats. The unsafe condition, if not addressed, could result in an uncommanded fore or aft seat movement during a critical part of a flight, such as takeoff or landing, and could cause a flight control obstruction or unintended flight control input, which could result in the loss of the ability to control the airplane.

(f) Compliance

Comply with this AD within the compliance times specified, unless already done.

(g) Seat Part Number Identification and On-Condition Actions

Except as specified in paragraphs (i) and (j) of this AD: At the applicable time specified in the “Compliance,” paragraph of Boeing Special Attention Service Bulletin 767-25-0539, Revision 2, dated January 27, 2023, do an inspection to determine the part number, and serial number as applicable, of the Captain's and First Officer's seats, and all applicable on-condition actions, in accordance with the Accomplishment Instructions of Boeing Special Attention Service Bulletin 767-25-0539, Revision 2, dated January 27, 2023. A review of airplane maintenance records is acceptable in lieu of this inspection if the part number and serial number of the Captain's and First Officer's seats can be conclusively determined from that review.

(h) Detailed Inspection, and Repetitive Checks of Horizontal Movement System and On-Condition Actions

Except as specified by paragraphs (i) and (j) of this AD: At the applicable times specified in the “Compliance,” paragraph of Boeing Special Attention Bulletin 767-25-0549, Revision 2, dated January 27, 2023, do all applicable actions identified as “RC” (required for compliance) in, and in accordance with, the Accomplishment Instructions of Boeing Special Attention Bulletin 767-25-0549, Revision 2, dated January 27, 2023. Actions identified as terminating action in Boeing Special Attention Bulletin 767-25-0549, Revision 2, dated January 27, 2023, terminate the applicable required actions of this AD, provided the terminating action is done in accordance with the Accomplishment Instructions of Boeing Special Attention Service Bulletin 767-25-0549, Revision 2, dated January 27, 2023.

(i) Exceptions to Service Information Specifications

(1) Where the “Compliance” paragraph of Boeing Special Attention Bulletin 767-25-0549, Revision 2, dated January 27, 2023, refers to the original issue date of the service bulletin, this AD requires using September 12, 2019 (the effective date of AD 2019-14-13).

(2) Where the “Compliance” paragraph of Boeing Special Attention Bulletin 767-25-0549, Revision 2, dated January 27, 2023, refers to the Revision 2 date of the service bulletin, this AD requires using the effective date of this AD.

(3) Where the “Compliance” paragraph of Boeing Special Attention Service Bulletin 767-25-0539, Revision 2, dated January 27, 2023, refers to within 72 months after the original issue date of the service bulletin, this AD requires using within 36 months after September 12, 2019 (the effective date of AD 2019-14-13).

(4) Where the “Compliance” paragraph of Boeing Special Attention Bulletin 767-25-0539, Revision 2, dated January 27, 2023, refers to the Revision 2 date of the service bulletin, this AD requires using the effective date of this AD.

(j) Acceptable Conditions for Compliance

If the airplane records show that an Ipeco Captain's or First Officer's seat meets all criteria specified in any row in figure 1 to paragraph (j) of this AD, the actions specified in paragraphs (g) and (h) of this AD are not required for that seat.

Figure 1 to Paragraph (j)—Alternative Acceptable Seats

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2019-14-13 are approved as AMOCs for the corresponding provisions of Boeing Special Attention Service Bulletin 767-25-0539, Revision 2, dated January 27, 2023, and Boeing Special Attention Service Bulletin 767-25-0549, Revision 2, dated January 27, 2023, that are required by paragraphs (g) and (h) of this AD.

(5) For service information that contains steps that are labeled as Required for Compliance (RC), the provisions of paragraphs (k)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

For more information about this AD, contact Courtney Tuck, Aviation Safety Engineer, FAA, 2200 South 216th Street, Des Moines, WA 98198; phone 206-231-3986; email Courtney.K.Tuck@faa.gov.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Boeing Special Attention Service Bulletin 767-25-0539, Revision 2, dated January 27, 2023.

(ii) Boeing Special Attention Service Bulletin 767-25-0549, Revision 2, dated January 27, 2023.

(3) For Boeing material identified in this AD, contact Boeing Commercial Airplanes, Attention: Contractual & Data Services (C&DS), 2600 Westminster Boulevard, MC 110-SK57, Seal Beach, CA 90740-5600; phone 562-797-1717; website myboeingfleet.com.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 26, 2024.
Suzanne Masterson,
Deputy Director, Integrated Certificate Management Division, Aircraft Certification Service.

[FR Doc. 2024-20160 Filed 9-6-24; 8:45 am]

BILLING CODE 4910-13-P